DEPARTMENT OF COMMERCE

National Institute of Standards and Technology

Advisory Committee on Earthquake Hazards Reduction Meeting

AGENCY: National Institute of Standards and Technology, Department of Commerce.

ACTION: Notice of open meeting.

SUMMARY: The Advisory Committee on Earthquake Hazards Reduction (ACEHR or Committee), will hold an open meeting via a cloud-based video conference on Wednesday, May 3, 2017, from 3:15 p.m. to 5:15 p.m. Eastern Time. The primary purpose of this meeting is to discuss an outline for the Committee's 2017 Report on the Effectiveness of the National Earthquake Hazards Reduction Program (NEHRP). The agenda may change to accommodate Committee business. The final agenda and any meeting materials will be posted on the NEHRP Web site at http://nehrp.gov/. Interested members of the public will be able to participate in the meeting from remote locations by calling in to a central phone number.

DATES: The ACEHR will hold a meeting via a cloud-based video conference on Wednesday, May 3, 2017, from 3:15 p.m. until 5:15 p.m. Eastern Time. The meeting will be open to the public.

ADDRESSES: Questions regarding the meeting should be sent to the National Earthquake Hazards Reduction Program Director, National Institute of Standards and Technology (NIST), 100 Bureau Drive, Mail Stop 8604, Gaithersburg, Maryland 20899-8604. For instructions on how to participate in the meeting via the cloud-based video conference, please see the SUPPLEMENTARY INFORMATION section of this notice.

FOR FURTHER INFORMATION CONTACT: Tina Faecke, Management and Program Analyst, National Earthquake Hazards Reduction Program, Engineering Laboratory, NIST, 100 Bureau Drive, Mail Stop 8604, Gaithersburg, Maryland 20899-8604. Ms. Faecke's email address is tina.faecke@nist.gov and her phone number is (301) 975-5911.

SUPPLEMENTARY INFORMATION: The Committee was established in accordance with the requirements of Section 103 of the NEHRP Reauthorization Act of 2004 (Public Law 108-360). The Committee is composed of 15 members appointed by the Director of NIST, who were selected for their established records of distinguished service in their professional community, their knowledge of issues affecting NEHRP, and to reflect the wide diversity of technical disciplines, competencies, and communities involved in earthquake hazards reduction. In addition, the Chairperson of the U.S. Geological Survey Scientific Earthquake Studies Advisory Committee serves as an ex-officio member of the Committee.

The Committee assesses:

• Trends and developments in the science and engineering of earthquake hazards reduction;

• the effectiveness of NEHRP in performing its statutory activities;

• any need to revise NEHRP; and

• the management, coordination, implementation, and activities of NEHRP.

Background information on NEHRP and the Advisory Committee is available at http://nehrp.gov/.

Pursuant to the Federal Advisory Committee Act, as amended, 5 U.S.C. App., notice is hereby given that the ACEHR will hold an open meeting via a cloud-based video conference on Wednesday, May 3, 2017, from 3:15 p.m. to 5:15 p.m. Eastern Time. There will be no central meeting location. Interested members of the public will be able to participate in the meeting from remote locations by calling in to a central phone number. The primary purpose of this meeting is to discuss an outline for the Committee's 2017 Report on the Effectiveness of the NEHRP. The agenda may change to accommodate Committee business. The final agenda and any meeting materials will be posted on the NEHRP Web site at http://nehrp.gov/.

Individuals and representatives of organizations who would like to offer comments and suggestions related to the Committee's affairs are invited to request an opportunity to speak and detailed instructions on how to join the video conference from a remote location in order to participate by submitting their request to Tina Faecke at tina.faecke@nist.gov or 301-975-5911 no later than 5:00 p.m. Eastern Time, Thursday, April 27, 2017. Approximately 15 minutes will be reserved from 4:45 p.m.—5:00 p.m. Eastern Time for public comments; speaking times will be assigned on a first-come, first-serve basis. The amount of time per speaker will be determined by the number of requests received, but is likely to be about three minutes each. Questions from the public will not be considered during this period. Speakers who wish to expand upon their oral statements, those who had wished to speak but could not be accommodated, and those who were unable to participate are invited to submit written statements to ACEHR, National Institute of Standards and Technology, 100 Bureau Drive, MS 8604, Gaithersburg, Maryland 20899-8604, via fax at (301) 975-4032, or electronically by email to tina.faecke@nist.gov.

All participants of the meeting are required to pre-register. Anyone wishing to participate must register by 5:00 p.m. Eastern Time, Thursday, April 27, 2017, in order to be included. Please submit your full name, email address, and phone number to Tina Faecke at tina.faecke@nist.gov or (301) 975-5911. After pre-registering, participants will be provided with detailed instructions on how to join the video conference from a remote location in order to participate.

Kevin Kimball,
NIST Chief of Staff.

[FR Doc. 2017-07318 Filed 4-11-17; 8:45 am]

BILLING CODE 3510-13-P